FEDERAL COMMUNICATIONS COMMISSION

[3060-0400]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before April 29, 2015. If you anticipate that you will be submitting comments, but find it difficult to do so within the period of time allowed by this notice, you should advise the contacts below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the “Supplementary Information” section below.

FOR FURTHER INFORMATION CONTACT: For additional information or copies of the information collection, contact Nicole Ongele at (202) 418-2991.

To view a copy of this information collection request (ICR) submitted to OMB: (1) Go to the Web page <http://www.reginfo.gov/public/do/PRAMain>, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0400.

Title: Part 61, Tariff Review Plan (TRP).

Form Number: N/A.

Type of Review: Extension of a currently approved collection.

Respondents: Business or other for-profit entities.

Number of Respondents: 2,840 respondents; 8,554 responses.

Estimated Time per Response: 0.5 hours to 53 hours.

Frequency of Response: On occasion, annual, biennial, and one time reporting requirements.

Obligation to Respond: Required to obtain or retain benefits. Statutory authority for this information collection is contained in 47 U.S.C. Sections 201, 202, 203, and 251(b)(5) of the Communications Act of 1934, as amended.

Total Annual Burden: 121,656 hours.

Total Annual Cost: No cost.

Privacy Impact Assessment: No impact.

Nature and Extent of Confidentiality: Respondents are not being asked to submit confidential information to the Commission. If the Commission requests respondents to submit information which respondents believe are confidential, respondents may request confidential treatment of such information under 47 CFR 0.459 of the Commission's rules.

Needs and Uses: On November 18, 2011, the Commission released the USF/ICC Transformation Order, FCC 11-61 and the Second Order on Reconsideration, FCC 12-47, released on April 25, 2012, required incumbent and competitive local exchange carriers to submit supporting documentation as part of their Tariff Review Plans (TRPs).

Certain local exchange carriers are required to submit a biennial or annual TRP in partial fulfillment of cost support material required by 47 CFR part 61. Sections 201, 202, and 203 of the Communications Act of 1934, as amended, require common carriers to establish joint and reasonable charges, practices, and regulations for their interstate telecommunications services provided. For services that are still covered under Section 203, tariff schedules containing charges, rates, rules, and regulations must be filed with the Commission. If the FCC takes no action within the notice period, then the filing becomes effective. The Commission is granted broad authority to require the submission of data showing the value of property used to provide the services, some of which are automatically required by its rules and some of which can be required through individual requests. All filings that become effective are considered legal but only those filed pursuant to Section 204(a)(3) of the Act are deemed lawful.

For services that are detariffed, no tariffs are filed at the FCC and determination of reasonableness and any unreasonable discrimination is generally addressed through the complaint process. Incumbent local exchange carriers (ILECs) can make a voluntary filing at any time, but are required to update rates annually or biennially. See 47 CFR 69.3.

Among other reforms, the Commission developed the TRP to minimize reporting burdens on reporting ILECs. TRPs set forth the summary material ILECs file to support revisions to the rates in their interstate access service tariffs. For those services still requiring cost support, TRPs assist the Commission in determining whether ILEC access charges are just and reasonable as required under the Communications Act of 1934, as amended.

The Commission also minimized reporting burdens by developing incentive-based regulation (price caps), which simplifies the process of determining the reasonableness of rates and rate structures for ILECs subject to price caps. Supporting material requirements for price cap ILECs having 50,000 or fewer access lines do not have to file any supporting material unless requested to do so. Price cap carriers can elect to be subject to Title I versus Title II of the Act for certain forms of internet access in order to offer their internet service on a detariffed basis pursuant to private contracts. Rate-of-return ILECs can choose to charge from tariffed to detariffed for the same internet services, but are subject to Title II regulation. Through forbearance, the Commission has allowed those LECs whose petition has been granted to choose mandatory detariffing of certain broadband and packet services.

Federal Communications Commission.
Sheryl D. Todd,
Deputy Secretary, Office of the Secretary, Office of the Managing Director.

[FR Doc. 2015-07187 Filed 3-27-15; 8:45 am]

BILLING CODE 6712-01-P